SURFACE TRANSPORTATION BOARD

[Docket No. FD 36135]

Union Pacific Railroad Company—Temporary Trackage Rights Exemption—The Kansas City Southern Railway Company

Union Pacific Railroad Company (UP), a Class I rail carrier, has filed a verified notice of exemption under 49 CFR 1180.2(d)(8) for its acquisition of temporary overhead trackage rights over a line of railroad of Kansas City Southern Railway Company (KCS) between milepost 681.0 near Pineville, La., and milepost 561.7 near Bossier City, La., a distance of approximately 119.3 miles.

UP states that, pursuant to a written trackage rights agreement (Agreement) dated July 12, 2017,¹ KCS has agreed to grant the specified temporary overhead trackage rights to UP. UP states that it intends to consummate the transaction upon the effective date of the notice.² The sole purpose of the trackage rights is to allow UP to operate its own trains that are rerouted over the KCS line while UP repairs a damaged bridge on its DeQuincy Subdivision. The temporary trackage rights will expire on August 31, 2017.

¹ A redacted copy of the Agreement between UP and KCS was filed with the notice. An unredacted copy was filed under seal along with a motion for protective order pursuant to 49 CFR 1194.14(a). That motion will be addressed in a separate decision.

² On July 18, 2017, UP filed a petition requesting that the Board allow this trackage rights transaction to become effective immediately rather than on August 17, 2017. The Board is addressing this request in another decision.

As a condition to this exemption, any employees affected by the acquisition of the temporary trackage rights will be protected by the conditions imposed in Norfolk & Western Railway—Trackage Rights—Burlington Northern, Inc., 354 I.C.C. 605 (1978), as modified in Mendocino Coast Railway—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(8). If the verified notice contains false or misleading information, the exemption is void ab initio. Petitions to revoke the exemption under 49 U.S.C. 10502(d) may be filed at any time. The filing of a petition to revoke will not automatically stay the effectiveness of the exemption.

An original and 10 copies of all pleadings, referring to Docket No. FD 36135, must be filed with the Surface Transportation Board, 395 E Street SW., Washington, DC 20423-0001. In addition, a copy of each pleading must be served on applicant's representative, Jeremy M. Berman, Union Pacific Railroad Company, 1400 Douglas Street, STOP 1580, Omaha, NE 68179.

According to UP, this action is categorically excluded from environmental review under 49 CFR 1105.6(c) and historic reporting under 49 CFR 1105.8(b)(3).

Board decisions and notices are available on our Web site at WWW.STB.GOV.

Decided: July 21, 2017.
By the Board, Rachel D. Campbell, Director, Office of Proceedings.
Marline Simeon,
Clearance Clerk.

[FR Doc. 2017-15704 Filed 7-25-17; 8:45 am]

BILLING CODE 4915-01-P